DEPARTMENT OF AGRICULTURE

Submission for OMB Review; Comment Request

April 24, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business Cooperative Service

Title: 7 CFR 4284-F, Rural Cooperative Development Grant.

OMB Control Number: 0570-0006.

Summary of Collection: The Rural cooperative Development Grants (RCDG) program is administered through State Rural Development Offices on behalf of the Rural Business Cooperative Service (RBS). The primary objective of the program is to improve the economic condition of rural areas through cooperative development. Grant funds are awarded on a competitive basis using a scoring system that gives preference to applications that demonstrate a proven track record. The applicants, who are non-profit corporations or institutions of higher education, will provide information using various forms and supporting documentation.

Need and Use of the Information: RBS will use the information collected to evaluate the applicant's ability to carry out the purposes of the program. If this information were not collected, RBS would have no basis on which to evaluate the relative merit of each application.

Description of Respondents: Not for profit institutions.

Number of Respondents: 60.

Frequency of Responses: Record keeping; Reporting: On occasion.

Total Burden Hours: 8,200.

Charlene Parker,
Departmental Information Collection Clearance Officer.

[FR Doc. E7-8088 Filed 4-26-07; 8:45 am]

BILLING CODE 3410-XT-P